DEPARTMENT OF THE TREASURY

Agency Information Collection Activities; Submission for OMB Review; Comment Request; Multiple Departmental Offices Information Collection Requests

AGENCY: Departmental Offices, U.S. Department of the Treasury.

ACTION: Notice of information collection; request for comment.

SUMMARY: The Department of the Treasury will submit the following information collection requests to the Office of Management and Budget (OMB) for review and clearance in accordance with the Paperwork Reduction Act of 1995, on or after the date of publication of this notice. The public is invited to submit comments on these requests.

DATES: Comments should be received on or before April 1, 2024 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

1. Title: Generic Clearance for the Collection of Qualitative Feedback on Agency Service Delivery.

OMB Control Number: 1505-0231.

Type of Review: Extension without change of a currently approved collection.

Description: This collection of information is necessary to enable the Agency to garner customer and stakeholder feedback in an efficient, timely manner, in accordance with our commitment to improving service delivery. The information collected from our customers and stakeholders will help ensure that users have an effective, efficient, and satisfying experience with the Agency's programs.

Form: None.

Affected Public: Individuals and households.

Estimated Number of Respondents: 14,000.

Frequency of Response: On occasion.

Estimated Total Number of Annual Responses: 14,000.

Estimated Time per Response: 15 minutes.

Estimated Total Annual Burden Hours: 3,500.

2. Title: Designation of Financial Market Utilities.

OMB Control Number: 1505-0239.

Type of Review: Extension without change of a currently approved collection.

Description: Section 804 of the Dodd-Frank Wall Street Reform and Consumer Protection Act (the DFA) (Pub. L. 111-203, 124 Stat. 1376) provides the Financial Stability Oversight Council (Council) the authority to designate a financial market utility (FMU) as systemically important if the Council determines that the failure of or a disruption to the functioning of the FMU could create, or increase, the risk of significant liquidity or credit problems spreading among financial institutions or markets and thereby threaten the stability of the U.S. financial system. A designated FMU is subject to risk management standards prescribed by the Board of Governors of the Federal Reserve System, the Commodity Futures Trading Commission, or the Securities and Exchange Commission under section 805 of the DFA. The rules adopted by the Council in July 2011 (codified at 12 CFR part 1320) describe the criteria that will inform, and the processes and procedures established under the DFA for, the Council's designation of FMUs under the DFA.

Form: None.

Affected Public: Financial market utilities.

Estimated Number of Respondents: 11.

Frequency of Response: On occasion.

Estimated Total Number of Annual Responses: 11.

Estimated Time per Response: 40 hours.

Estimated Total Annual Burden Hours: 440.

Authority: 44 U.S.C. 3501 et seq.

Spencer W. Clark,
Treasury PRA Clearance Officer.

[FR Doc. 2024-04252 Filed 2-28-24; 8:45 am]

BILLING CODE 4810-AK-P